NUCLEAR REGULATORY COMMISSION

Sunshine Act Meeting

DATE: Weeks of April 10, 17, 24, May 1, 8, and 15, 2000.

PLACE: Commissioners' Conference Room, 11555 Rockville Pike, Rockville, Maryland.

STATUS: Public and Closed.

MATTERS TO BE CONSIDERED:

Week of April 10

There are no meetings scheduled for the Week of April 10.

Week of April 17—Tentative

There are no meetings scheduled for the Week of April 17.

Week of April 24—Tentative

There are no meetings scheduled for the Week of April 24.

Week of May 1—Tentative

Tuesday, May 2

9:30 a.m.

Briefing on Oconee License Renewal (Public Meeting) (Contact: Dave Lange, 301-415-1730)

Wednesday, May 3

9:25 a.m.

Affirmation Session (Public Meeting) (If needed)

9:30 a.m.

Briefing on Efforts Regarding Release of Solid Material (Public Meeting) (Contact: Frank Cardile, 301-415-6185)

Week of May 8—Tentative

Monday, May 8

10:00 a.m.

Briefing on Lessons Learned from the Nuclear Criticality Accident at Tokaimura and the Implications on the NRC's Program (Public Meeting) (Contact: Bill Troskoski, 301-415-8076)

Tuesday, May 9

8:55 a.m.

Affirmation Session (Public Meeting) (If needed)

9:00 a.m.

Meeting with Stakeholders on Efforts Regarding Release of Solid Material (Public Meeting) (Contact: Frank Cardile, 301-415-6185)

Week of May 15—Tentative

Tuesday, May 16

9:25 a.m.

Affirmation Session (Public Meeting) (If needed)

* The schedule for Commission meetings is subject to change on short notice. To verify the status of meetings call (recording)—(301) 415-1292.

CONTACT PERSON FOR MORE INFORMATION: Bill Hill (301) 415-1661.

ADDITIONAL INFORMATION: By a vote of 5-0 on April 6, the Commission determined pursuant to U.S.C. 552b(e) and § 9.107(a) of the Commission's rules that “Briefing by the Executive Branch (Closed-Ex. 1)” be held on April 6, and on less than one week's notice to the public.

The NRC Commission Meeting Schedule can be found on the Internet at: http://www.nrc.gov/SECY/smj/schedule.htm.

This notice is distributed by mail to several hundred subscribers; if you no longer wish to receive it, or would like to be added to it, please contact the Office of the Secretary, Attn: Operations Branch, Washington, DC 20555 (301-415-1661). In addition, distribution of this meeting notice over the Internet system is available. If you are interested in receiving this Commission meeting schedule electronically, please send an electronic message to wmh@nrc.gov or dkw@nrc.gov.

Dated: April 7, 2000.
William M. Hill, Jr.,
SECY Tracking Officer, Office of the Secretary.

[FR Doc. 00-9291 Filed 4-11-00; 10:36 am]

BILLING CODE 7590-01-M